DEPARTMENT OF ENERGY

Federal Energy Regulatory Commission

[Docket No. PL02-1-000]

Before Commissioners: Pat Wood, III, Chairman; William L. Massey, Linda Breathitt, and Nora Mead Brownell; Treatment of Previously Public Documents; Statement of Policy on Treatment of Previously Public Documents

Issued October 11, 2001.

The September 11, 2001 terrorist attacks on America have prompted the Commission to reconsider its treatment of certain documents that have previously been made available to the public through the Commission's Internet site, the Records and Information Management System (RIMS), and the Public Reference Room. For the time being, the Commission will no longer make available to the public through these means documents, such as oversized maps, that detail the specifications of energy facilities licensed or certificated under Part I of the Federal Power Act, 16 U.S.C. 791a, et seq., and Section 7(c) of the Natural Gas Act, 15 U.S.C. 717f(c), respectively. Rather, anyone requesting such documents must follow the procedures set forth in 18 CFR 388.108 (Requests for Commission records not available through the Public Reference Room (FOIA Requests)).

The Commission does not know how long this process will stay in place, and directs staff to report on its impact on agency business in 90 days. In the meantime, staff is also directed to make every effort to respond timely to legitimate requests for documents that have been made available to the public previously but that are no longer available through the means noted above.

By the Commission.
David P. Boergers,
Secretary.

[FR Doc. 01-26200 Filed 10-17-01; 8:45 am]

BILLING CODE 6717-01-P